DEPARTMENT OF COMMERCE

Bureau of the Census

Census Advisory Committees

AGENCY: Bureau of the Census, Department of Commerce.

ACTION: Notice of public meeting.

SUMMARY: Pursuant to the Federal Advisory Committee Act (Pub. L. 92-463, as amended by Pub. L. 94-409, Pub. L. 96-523, and Pub. L. 97-375), the Bureau of the Census (Census Bureau) is giving notice of a joint meeting followed by separate and concurrently held meetings of the Census Advisory Committees (CAC) on the African American Population, the American Indian and Alaska Native Populations, the Asian Population, the Hispanic Population, and the Native Hawaiian and Other Pacific Islander Populations. The Committees will address issues related to the 2010 census effort, including the American Community Survey and other related decennial programs. They will also discuss Census 2000 evaluations. The five Census Advisory Committees on Race and Ethnicity will meet separately on November 7 and in plenary and concurrent sessions on November 8 and 9. Last minute changes to the schedule are possible, which could prevent us from giving advance notice.

DATES: November 7-9, 2001. The November 7 meeting will begin at 12:30 p.m. and end at approximately 5:30 p.m. The November 8 meeting will begin at 8:15 a.m. and end at 5:30 p.m. The November 9 meeting will begin at 8:15 a.m. and end at 3:15 p.m.

ADDRESSES: The meetings will be held at the Hilton Alexandria Mark Center, 5000 Seminary Road, Alexandria, Virginia 22311.

FOR FURTHER INFORMATION CONTACT: Ms. Jeri Green, Committee Liaison Officer, U.S. Census Bureau, Commerce, Room 3619, Federal Building 3, Washington, DC 20233, telephone (301) 457-2075, TDD (301) 457-2540.

SUPPLEMENTARY INFORMATION: The CACs on the African American Population, the American Indian and Alaska Native Populations, the Asian Population, the Hispanic Population, and the Native Hawaiian and Other Pacific Islander Populations are comprised of nine members each. The Committees provide an organized and continuing channel of communication between the representative populations and the Census Bureau. The Committee provides an outside user perspective about how research and design plans for the 2010 Decennial Census, the American Community Survey, and other related programs will realize those goals and satisfy those needs. They assist the Census Bureau on identifying ways that census data can best be disseminated to diverse race and ethnic populations and other users.

All meetings are open to the public, and a brief period will be set aside on November 9 for public comment and questions. Individuals with extensive questions or statements must submit them in writing to the Committee Liaison Officer, named above, at least three days before the meeting. Seating is available to the public on a first-come, first-served basis.

These meetings are physically accessible to people with disabilities. Requests for sign language interpretation or other auxiliary aids should be directed to the Committee Liaison Officer.

Dated: October 10, 2001.
William G. Barron, Jr.,
Acting Director, Bureau of the Census.

[FR Doc. 01-25854 Filed 10-12-01; 8:45 am]

BILLING CODE 3510-07-P